INTERNATIONAL TRADE COMMISSION

[Investigation No. 337-TA-1108]

Certain Jump Rope Systems; Notice of Issuance of Limited Exclusion Order Against Respondent Found in Default; Termination of Investigation

AGENCY: U.S. International Trade Commission.

ACTION: Notice.

SUMMARY: Notice is hereby given that the U.S. International Trade Commission has issued a limited exclusion order against certain jump rope systems thereof of Respondent Suzhou Everise Fitness Co, Ltd. of Jiangsu, China (“Respondent”). The investigation is terminated.

FOR FURTHER INFORMATION CONTACT: Carl P. Bretscher, Office of the General Counsel, U.S. International Trade Commission, 500 E Street SW, Washington, DC 20436, telephone 202-205-2382. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on 202-205-1810.

SUPPLEMENTARY INFORMATION: On April 18, 2018, the Commission instituted this investigation pursuant to a complaint filed by Jump Rope Systems, LLC of Louisville, Colorado (“Complainant”). 83 FR 17190 (Apr. 18, 2018). The complaint, as supplemented, alleges violations of Section 337 of the Tariff Act of 1930, as amended (19 U.S.C. 1337), based upon the importation into the United States, sale for importation, or the sale within the United States after importation of certain jump rope systems that allegedly infringe one or more of the asserted claims of U.S. Patent Nos. 7,789,809 (“the '809 patent”) and 8,136,208 (“the '208 patent”). The notice of investigation named one respondent, Suzhou Everise Fitness Co., Ltd. of Jiangsu, China. The Office of Unfair Import Investigations (“OUII”) was also named a party to the investigation.

On August 6, 2018, the Commission determined not to review an initial determination (Order No. 6) that found Respondent to be in default under Commission Rule 210.16 (19 CFR 210.16). 83 FR 39460 (Aug. 9, 2018). The Commission further requested briefing from the parties and the public on the issues of remedy, the public interest, and bonding. Id.

On August 20, 2018, Complainant filed a submission requesting a limited exclusion order (“LEO”) against Respondent and arguing that none of the public interest factors weighs against granting the LEO. Complainant requested that the bond be set at one hundred (100) percent of entered value in accordance with the Commission's established practice for addressing defaulting respondents.

On August 20, 2018, OUII filed a submission that also recommended issuing an LEO against Respondent and setting the bond at one hundred (100) percent of entered value, per established Commission practice. OUII, like Complainant, argued that none of the public interest factors weighed against entering the LEO. On April 27, 2018, OUII filed a reply brief noting its agreement with Complainant's position.

The Commission has determined that the appropriate form of relief in this investigation is an LEO prohibiting the unlicensed entry of jump rope systems that infringe claim 1 of the '809 patent or claim 1 of the '208 patent and that are manufactured abroad by or on behalf of, or imported by or on behalf of, Respondent. The Commission has further determined that the public interest factors enumerated in Section 337(g)(1) (19 U.S.C. 1337(g)(1)) do not preclude issuance of the LEO. The Commission has determined that the bond for importation during the period of Presidential review shall be in the amount of one hundred (100) percent of the entered value of the imported subject articles of Respondent. The Commission's order was delivered to the President and the United States Trade Representative on the day of its issuance.

The authority for the Commission's determination is contained in Section 337 of the Tariff Act of 1930, as amended (19 U.S.C. 1337), and in part 210 of the Commission's Rules of Practice and Procedure (19 CFR part 210).

By order of the Commission.
Issued: September 25, 2018.
Lisa Barton,
Secretary to the Commission.

[FR Doc. 2018-21221 Filed 9-28-18; 8:45 am]

BILLING CODE 7020-02-P